FEDERAL COMMUNICATIONS COMMISSION

[CC Docket Nos. 96-262; 94-1; DA 01-2327]

Access Charge Reform, Price Cap Performance Review for Local Exchange Carriers

AGENCY: Federal Communications Commission.

ACTION: Notice.

SUMMARY: This document provides notice of a limited extension of time for the filing of cost submissions by price cap local exchange carriers and comments and reply comments on the filings in the subscriber line charge (SLC) cost review proceeding.

DATES: Cost submissions due November 16, 2001. Comments due December 17, 2001. Reply comments due January 9, 2002.

FOR FURTHER INFORMATION CONTACT: Jennifer McKee, Common Carrier Bureau, Competitive Pricing Division, (202) 418-1530.

SUPPLEMENTARY INFORMATION: By Public Notice dated September 17, 2001, we initiated a cost review proceeding to determine the appropriate residential and single-line business subscriber line charge (SLC) caps for price cap local exchange carriers (LECs). On October 3, 2001, several price cap LECs filed a petition requesting an extension of 30 days for the filing of their cost submissions. The price cap LECs request additional time due to the size and complexity of the task of compiling cost submission information. We agree that a limited extension is warranted. Price cap LECs must now file their cost submissions no later than November 16, 2001. We also extend the dates for filing comments and reply comments on the cost submissions. Comments will be due no later than December 17, 2001, and reply comments are due no later than January 9, 2002. When filing cost information and comments, parties should reference CC Docket Nos. 96-262 and 94-1.

This proceeding shall be treated as a “permit-but-disclose” proceeding in accordance with the Commission's ex parte rules. See 47 CFR 1.1200 and 1.1206. Persons making oral ex parte presentations are reminded that memoranda summarizing the presentations must contain summaries of the substance of the presentations and not merely a listing of the subjects discussed. More than a one or two sentence description of the views and arguments presented is generally required. See 47 CFR 1.1206(b). Other rules pertaining to oral and written ex parte presentations in permit-but-disclose proceedings are set forth in section 1.1206(b) of the Commission's rules, 47 CFR 1.1206(b).

An original and four copies of all cost information comments and reply comments must be filed with the Office of the Secretary, Federal Communications Commission, 445 12th Street, SW., Room TW-A225, Washington, DC 20554. In addition, one copy of each submissions must be filed with Qualex International, the Commission's duplicating contractor, at its office at Portals II, 445 12th Street, SW., Room CY-B402, Washington, DC 20554, and one copy with the Chief, Competitive Pricing Division, 445 12th Street, SW., Room 5-A225, Washington, DC 20554.

Federal Communications Commission.
Magalie Roman Salas,
Secretary.

[FR Doc. 01-25831 Filed 10-12-01; 8:45 am]

BILLING CODE 6712-01-P